DEPARTMENT OF THE INTERIOR

Bureau of Land Management

[LLCOS00000-L11100000.DF0000-18X]

Notice of Public Meetings, Southwest Resource Advisory Council, Colorado

AGENCY: Bureau of Land Management, Interior.

ACTION: Notice.

SUMMARY: In accordance with the Federal Land Policy and Management Act of 1976, and the Federal Advisory Committee Act of 1972, the U.S. Department of the Interior, Bureau of Land Management (BLM) Southwest Resource Advisory Council (RAC) is scheduled to meet as indicated below.

DATES: The meetings will be held on January 11, 2019 and March 8, 2019 from 9 a.m. to 4 p.m. A public comment period regarding matters on the agenda will be held at 11:30 a.m. at each meeting.

ADDRESSES: The January 11, 2019, meeting will be held at the Montrose Public Lands Center, 2465 S. Townsend Ave., Montrose, CO 81401. The March 8, 2019, meeting will be held at the Dolores Public Lands Center, 29211 Hwy. 184, Dolores, CO 81323.

FOR FURTHER INFORMATION CONTACT: Stephanie Connolly, Acting Public Affairs Specialist, Southwest District, BLM Grand Junction Field Office, 2815 H Road, Grand Junction, CO 81506. Phone: (970) 240-5315. Email: sconnolly@blm.gov. Persons who use a telecommunications device for the deaf (TDD) may call the Federal Relay Service (FRS) at 1-800-877-8339 to contact the above individual during normal business hours.

The FRS is available 24 hours a day, seven days a week, to leave a message or question with the above individual. You will receive a reply during normal business hours.

SUPPLEMENTARY INFORMATION: The 15-member RAC advises the Secretary of the Interior, through the BLM, on a variety of public land issues in the Southwest District, which includes the Grand Junction, Uncompahgre and Tres Rios field offices, as well as Canyons of the Ancients National Monument in Colorado. Agenda items for the January 2019 meeting include recreation fee proposals, the close-out of the Dominguez-Escalante Advisory Council, and forming a subcommittee dedicated to partnership-based trail construction in the Grand Junction area. A training session for the Recreation RAC is also planned. Agenda items for the March 2019 meeting will be announced prior to the meeting. The public is encouraged to make oral comments to the RAC at either or both meetings at 11:30 a.m., or written statements may be submitted at the meeting for the RAC's consideration (see contact information above). Before including your address, phone number, email address, or other personally identifiable information in your comment, you should be aware that your entire comment—including your personally identifiable information—may be made publicly available at any time. While you can ask the BLM in your comment to withhold your personally identifiable information from public review, we cannot guarantee that we will be able to do so.

Gregory P. Shoop,
Acting BLM Colorado State Director.

[FR Doc. 2018-23102 Filed 10-22-18; 8:45 am]

BILLING CODE 4310-JB-P